DEPARTMENT OF COMMERCE

National Oceanic and Atmospheric Administration

[RTID 0648-XC774]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of the following: Snapper Grouper Committee; Southeast Data, Assessment and Review (SEDAR) Committee, Mackerel Cobia Committee; and Habitat Protection and Ecosystem-Based Management Committee. The meeting week will also include a formal public comment session, public hearing, and a meeting of the Full Council.

DATES: The Council meeting will be held from 8:30 a.m. on Monday, March 6, 2023, until 12 p.m. on Friday, March 10, 2023.

ADDRESSES: Meeting address: The meeting will be held at the Westin Jekyll Island, 110 Ocean Way, Jekyll Island, GA 31527; phone: (912) 635-4545. The meeting will also be available via webinar. Registration is required. See SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including agendas, overviews, and briefing book materials will be posted on the Council's website at: http://safmc.net/safmc-meetings/council-meetings/. Webinar registration links for the meeting will also be available from the Council's website.

Public comment: Public comment on agenda items may be submitted through the Council's online comment form available from the Council's website at: http://safmc.net/safmc-meetings/council-meetings/. Comments will be accepted from February 17, 2023, until March 10, 2023. These comments are accessible to the public, part of the Administrative Record of the meeting, and immediately available for Council consideration. A formal public comment session will also be held during the Council meeting.

The items of discussion in the individual meeting agendas are as follows:

Council Session I, Monday, March 6, 2023, 8:30 a.m. Until 10 a.m. (Closed Session)

The Council will meet in Closed Session to receive a litigation brief, review changes to the Council's Advisory Panel Policy and Handbook, discuss participants for appointment to Blueline and Tilefish topical working groups, and discuss appointments to the SEDAR Pool and the Council's Scientific and Statistical Committee (SSC).

Council Session I, Monday, March 6, 2023, 10 a.m.-12 p.m. (Open Session)

The Council will receive reports from state agencies, Council liaisons, NOAA Office of Law Enforcement, and the U.S. Coast Guard. The Council will review the Commercial Electronic Logbook Amendment and consider approving the joint amendment for public hearing. The Council will also discuss the outcomes of the 2023 Climate Change Scenario Planning Summit Meeting and next steps.

Snapper Grouper Committee, Monday, March 6, 2023, 1:30 p.m. Until 5 p.m., Tuesday, March 7, 2023, 8:30 a.m. Until 5 p.m., and Wednesday, March 8, 2023, From 8:30 a.m. Until 12 p.m.

The Committee will receive an update on amendments under formal review and a presentation on a Management Strategy Evaluation (MSE) for the Snapper Grouper Fishery. The Committee will get an update from NOAA Fisheries on the 2023 Red Snapper recreational season and review public hearing comments on Snapper Grouper Regulatory Amendment 35 (Release Mortality Reduction and Red Snapper Catch Levels) and consider approving the amendment for Secretarial review. The Committee will also receive updates on Best Fishing Practices outreach and the South Atlantic Red Snapper Research Program (SARSRP).

The Committee will review public scoping comments and discuss the Recreational Permitting Amendment (Snapper Grouper Amendment 46). Committee members will receive a presentation from NOAA Fisheries and SSC recommendations for the SEDAR 68 stock assessment for scamp and yellowmouth grouper. The Committee will review public hearing comments for Snapper Grouper Amendment 53 addressing management measures gag grouper and black grouper and consider approving the amendment for Secretarial review. The Committee will review Snapper Grouper Amendment 48 addressing wreckfish management measures and approve topics for the Spring 2023 meeting of the Snapper Grouper Advisory Panel.

SEDAR Committee, Wednesday, March 8, 2023, 1:30 p.m. Until 2:30 p.m.

The Committee will consider Terms of Reference for blueline tilefish and tilefish (golden), receive a report from the SEDAR Steering Committee, an update on SEDAR projects, and discuss 2026 South Atlantic SEDAR schedule recommendations.

Mackerel Cobia Committee, Wednesday, March 8, 2023, 2:30 p.m. Until 3:45 p.m.

The Committee will receive an update on the status of amendments under review, receive SSC recommendations and discuss management of Spanish mackerel, discuss options for conducting port meetings for the mackerel fishery, and approve topics for the Spring 2023 meeting of the Mackerel Cobia Advisory Panel.

Formal Public Comment, Wednesday, March 8, 2023, 4 p.m.—Public comment will be accepted from individuals attending the meeting in person and via webinar on all items on the Council meeting agenda. The Council Chair will determine the amount of time provided to each commenter based on the number of individuals wishing to comment.

A public hearing for Snapper Grouper Amendment 48 addressing proposed wreckfish management measures will be held during the public comment period.

Habitat Protection and Ecosystem-Based Management Committee, Thursday, March 9, 2023, 8:30 a.m. Until 12 p.m.

The Committee will receive an update on the status of the Council's Habitat Blueprint, review the Council's Beach Dredging and Energy Policies, and discuss the 5-year review of Essential Fish Habitat designations. The Committee will also receive a report from the Council Coordinating Committee's Area-Based Management Subcommittee, discuss coral management items, and approve topics for the Spring 2023 meeting of the Habitat and Ecosystem-Based Management Advisory Panel.

Council Session II, Thursday, March 9, 2023, 1:30 p.m. Until 5 p.m. and Friday, March 10, 2023, 8:30 a.m. Until 12 p.m.

The Council will receive a litigation brief if needed, a staff report, and a report from the Shrimp Advisory Panel. The Council will receive a presentation on an update of the Florida Keys National Marine Sanctuary's Protocol for Cooperative Fisheries Management, and reports from NOAA Fisheries' Southeast Regional Office and the Southeast Fisheries Science Center. The Council will receive Committee reports, review its workplan for the next quarter, upcoming meetings, and take action as necessary. The Council will discuss any other business as needed.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 5 days prior to the meeting.

Note: The times and sequence specified in this agenda are subject to change.

Authority: 16 U.S.C. 1801 et seq.

Dated: February 13, 2023.
Rey Israel Marquez,
Acting Deputy Director, Office of Sustainable Fisheries, National Marine Fisheries Service.

[FR Doc. 2023-03315 Filed 2-15-23; 8:45 am]

BILLING CODE 3510-22-P